PEACE CORPS

Privacy Act of 1974: New System of Records

AGENCY: Peace Corps.

ACTION: Notice of a new system of records.

SUMMARY: Peace Corps proposes to add a new system of records to its inventory of records systems subject to the Privacy Act of 1974 (5 U.S.C. 552a), as amended. This action is necessary to meet the requirements of the Privacy Act to publish in the Federal Register notice of the existence and character of records maintained by the agency (5 U.S.C. 552a(e)(4)).

DATES: This action will be effective without further notice on December 4, 2019 unless comments are received that would result in a contrary determination.

ADDRESSES: Send written comments to the Peace Corps, ATTN: Virginia Burke, FOIA/Privacy Act Officer, 1111 20th Street NW, Washington, DC 20526 or by email at pcfr@peacecorps.gov. Email comments must be made in text and not in attachments.

FOR FURTHER INFORMATION CONTACT: Virginia Burke, FOIA/Privacy Act Officer, 202-692-1887.

SUPPLEMENTARY INFORMATION: The purpose of this system of records is to maintain current Peace Corps personnel locator listings, and to notify Peace Corps personnel with specific, time-sensitive information before, during, and after an event, and to account for personnel who are affected by the event. Communication may be used for routine alerts, work-related issues, and emergency communications.

Dated: October 22, 2019.
Virginia Burke,
FOIA/Privacy Act Officer.

PC-36—PEACE CORPS

System name:

Personnel Accountability System—Not Covered by Notices of Other Agencies.

System location:

Peace Corps Headquarters, Peace Corps, 1111 20th Street NW, Washington, DC 20526.

Categories of individuals covered by the system:

Peace Corps domestic and overseas personnel which includes employees, contractors, interns, work study students, and Peace Corps Volunteers.

Categories of records in the system:

The agency-wide system covers all Peace Corps personnel accountability locator systems, emergency contact records and systems, telework contact records, or administrative contact lists not covered by OPM/GOVT-1 that contain Peace Corps personnel and organizational information. Information for Peace Corps personnel includes the individual's first name, last name, position staff title, employment type, work email address, work phone number, office location, home email address, personal phone number, unique Peace Corps staff identification number, photograph (optional), and country in which the individual works. Peace Corps Volunteer information includes personal email address, personal phone number, volunteer identification number, Post site location and residence address, and the longitude and latitude coordinates of the country site residence.

Authority for maintenance of the system:

5 U.S.C. 301, Departmental Regulations; 6 U.S.C. 501-521, National Emergency Management; as amended; 6 U.S.C. 572, National Emergency Communications Plan; Post-Katrina Emergency Management Reform Act of 2006, 6 U.S.C. 701, et. Seq., National Emergency Management; 22 U.S.C. 2501, et. seq., the Peace Corps Act; Public Law 87-293, as amended; 42 U.S.C. 5121-5207, the Robert T. Stafford Disaster Relief and Emergency Assistance Act, as amended; National Security Presidential Directive—51 and Homeland Security Presidential Directive—20; Homeland Security Presidential Directive 12; Federal Continuity Directive 1; Executive Order (E.O.) 12137,The Peace Corps; E.O. 12472, Assignment of National Security and Emergency Preparedness Telecommunications Functions, as amended; E.O. 12656, Assignment of Emergency Preparedness Responsibilities; Peace Corps Manual Section (MS) 129, Office of the Chief Information Officer: Organization, Mission, and Functions; MS 130, Office of Safety and Security: Organization, Mission, and Functions; MS 132, Office of Human Resources: Organization, Mission, and Functions.

Purpose(s):

These records are used to maintain current Peace Corps personnel locator listings, and to notify Peace Corps personnel with specific, time-sensitive information before, during, and after an event, and to account for personnel who are affected by the event. Communication may be used for routine alerts, work-related issues, and emergency communications.

Routine uses of records maintained in the system, including categories of users and the purposes of such uses:

Peace Corps general routine uses A through M apply to this system.

Disclosure to consumer reporting agencies:

None.

Policies and practices for storing, retrieving, securing, retaining, and disposing of records in the system:

Storage:

Records are maintained in electronic media and paper.

Retrievability—Information retrieved using the following unique identifier(s):

First name, last name, employment type, unique Peace Corps ID number, office name, position title, work or personal email account, and country or site in which the individual works.

Safeguards:

Records are centrally maintained in controlled areas within a secure facility. Physical entry is restricted by security guards and presentation of authenticated identification badges at entry control points, and key cards for access into buildings and authorized areas. Electronic records are maintained in a secured electronic system accessible only to authorized personnel responsible for maintaining the record system in the performance of their official duties. Access to computer data is managed by privileged management software and governing policies. Access is protected by an assigned user profile, user ID, password, encryption, and PIV card access on work computers. User profiles are role-based and ensure that the individual's role will only access authorized data. Paper records are maintained in locked file storage areas or in specified secured areas to which only authorized personnel have access.

Retention and Disposal:

Records are retained in accordance with the applicable NARA-approved retention schedules for temporary records. Disposal and destruction of electronic records is done by erasing, deleting, or overwriting the data. Paper records are destroyed by secure shredding.

System manager(s) and address:

Associate Director for Safety and Security; the Chief Information Officer; or the Chief Human Capital Officer, Peace Corps, 1111 20th Street NW, Washington, DC 20526.

Notification procedure:

Individuals seeking to determine whether information about themselves is contained in this system of records must send the written request to the Privacy Act Officer, Peace Corps, 1111 20th Street NW, Washington, DC 20526. Requesters will be required to provide adequate identification for verification purposes, such as a driver's license, employee identification card, or other identifying documentation. Additional identification may be required in some instances. The individual should reasonably specify the record contents being sought. Complete Peace Corps Privacy Act procedures are set out in 22 CFR part 308. Current Peace Corps personnel may also directly access the particular system.

Record access procedures:

Active Peace Corps personnel have full access to and control over their individual record and may amend information at any time, or contact the System Manager. Individuals seeking to determine whether information about themselves is contained in this system of records must send the written request to the Privacy Act Officer Peace Corps, 1111 20th Street NW, Washington, DC 20526. Requesters will be required to provide adequate identification for verification purposes, such as a driver's license, employee identification card, or other identifying documentation. Additional identification may be required in some instances. The individual should reasonably specify the record contents being sought. All individuals requesting access must follow Peace Corps Privacy Act regulations regarding verification and identity. Complete Peace Corps Privacy Act procedures are set out in 22 CFR part 308.

Contesting record procedures:

Active Peace Corps personnel have full access to and control over their individual record and may amend information at any time, or contact the System Manager. Any individual who wants to contest the contents of a record outside of their control should make a written request to the Privacy Act Officer at the address specified under notification procedures above. Requests for correction or amendment must reasonably identify the specific record to be changed, the information to be contested, and corrective action sought with supporting justification. Complete Peace Corps Privacy Act procedures are set out in 22 CFR part 308.

Record source categories:

The information contained in this system is obtained from and updated by the individual on whom the record is maintained.

Systems exempted from certain provisions of the Privacy Act:

None.

[FR Doc. 2019-23387 Filed 10-24-19; 8:45 am]

BILLING CODE 6051-01-P